DEPARTMENT OF THE INTERIOR

National Park Service

National Register of Historic Places; Notification of Pending Nominations and Related Actions

Nominations for the following properties being considered for listing or related actions in the National Register were received by the National Park Service before August 2, 2008. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by August 29, 2008.

J. Paul Loether,
Chief, National Register of Historic Places/National Historic Landmarks Program.

ALASKA

Anchorage Borough-Census Area

McKinley Tower Apartments, 337 E. 4th Ave., Anchorage, 08000882

CALIFORNIA

Monterey County

Monterey County Court House, 240 Church St., Salinas, 08000878

COLORADO

Custer County

Wetmore Post Office, 682 Co. Rd. 395, Wetmore, 08000860

Jefferson County

North Fork Historic District (Boundary Increase), Longview, Foxton, Argyle and Pine Grove Expansions, Pine and South Platte, 08000861

CONNECTICUT

Hartford County

Ambassador Apartments, 206-210 Farmington Ave., Hartford, 08000859

IDAHO

Blaine County

Hailey Masonic Lodge, 100 S. 2nd Ave., Hailey, 08000869

Bonneville County

Art Troutner Houses Historic District, 3950, 4012 and 4032 S. 5th W., Idaho Falls, 08000868

MASSACHUSETTS

Berkshire County

Mahaiwe Block, 6-14 Castle St. and 314-322 Main St., Great Barrington, 08000898

Essex County

JOFFRE, (shipwreck), (Eastern Rig Dragger Fishing Vessel Shipwrecks in the Stellwagen Bank National Marine Sanctuary) Address Restricted, Massachusetts, 08000887

Hampden County

North High Street Historic District (Boundary Increase), 580 Dwight St., 230, 234 and 236 Maple St., Holyoke, 08000897

MISSOURI

Franklin County

Keller, Christian and Anna, Farmstead, 936 Kohl Country La., Gerald, 08000867

MONTANA

Beaverhead County

Elkhorn-Coolidge Historic District, Forest Service Rd. #2465, approximately four miles SE. of jct. with MT 43, Wise River, 08000884

NEW JERSEY

Middlesex County

Princeton Nurseries Historic District, Generally along Mapleton Rd. and Ridge Rd., Plainsboro and South Brunswick, 08000899

NEW YORK

Erie County

General Electric Tower, 535 Washington St., Buffalo, 08000865

USS CROAKER (submarine), 1 Naval Park Cove, Buffalo, 08000863

Schoharie County

St. John's Lutheran Church, 6569 NY 10, Beekman Corners, 08000864

Suffolk County

Big Duck Ranch, 1012 NY 24, Flanders, 08000866

Washington County

Wing-Northup House, 167 Broadway, Fort Edward, 08000862

NORTH CAROLINA

Haywood County

Shook-Welch-Smathers House, 178 Morgan St., Clyde, 08000891

Transylvania County

Grogan, William H., House, (Transylvania County MPS) 24 Warren La., Brevard, 08000890

Wake County

City Cemetery, 17 S. E. St., Raleigh, 08000889

Free Church of the Good Shepherd, 110 S. E. St., Raleigh, 08000888

SOUTH DAKOTA

Harding County

Fowler Hotel, 103 1st St., Buffalo, 08000886

Lawrence County

Harvey, Jerome and Jonetta Homestead Cabin, Township 3, Range 2, Track A of Homestead Entry Survey 71, Lead, 08000885

TEXAS

Tyler County

Warren School, 312 Co. Rd. 1515, Warren, 08000883

UTAH

Carbon County

Bryner, Albert and Mariah, House, 68 S. 100 E., Price, 08000858

Salt Lake County

Keyser, Malcolm and Elizabeth, House, 381 E. 11th Ave., Salt Lake City, 08000881

Peter Pan Apartments, (Salt Lake City MPS) 446 E. 300 S., Salt Lake City, 08000880

Piccardy Apartments, (Salt Lake City MPS) 115 S. 300 E., Salt Lake City, 08000879

VIRGINIA

Accomack County

Hills Farm, 19065 Hills Farm Rd., Greenbush, 08000872

Albemarle County

Clark Hall, University of Virginia, 291 McCormick Rd., Charlottesville, 08000871

Buchanan County

Whitewood High School, 17424 Dismal River Rd., Whitewood, 08000893

Chesterfield County

Proctor Creek, Jefferson Davis Highway Marker, (UDC Commemorative Highway Markers along the Jefferson Davis Highway in Virginia) 9300 Block of Jefferson Davis Hwy., Richmond, 08000892

Cumberland County

High Bridge, Appomattox River, Farmville, 08000875

Dinwiddie County

Petersburg Old Town Historic District (Boundary Increase), 241 4th St., 223-225 Henry St., 230 and 316 E. Bank St., Petersburg, 08000873

Mecklenburg County

La Crosse Hotel, 201 Central Ave., La Crosse, 08000876

Petersburg Independent city

Commerce Street Industrial Historic District, Commerce, Upper Appomattox, West, Dunlop, and South Sts., Petersburg, 08000870

Prince Edward County

High Bridge, Appomattox River, Farmville, 08000875

Richmond Independent city

Hunt-Sitterding House, 901 Floyd Ave., Richmond, 08000877

Stafford County

Union Church and Cemetery, Carter St. and Butler Rd., Falmouth, 08000896

Winchester Independent city

Winchester Coca-Cola Bottling Works, 1720 Valley Ave., Winchester, 08000895

Winchester Historic District (Boundary Increase), 300-400 blocks of N. Cameron St., 12 Clark St., 110 E. Fairfax La. and 145 N. Baker St., Winchester, 08000874

Wythe County

St. John's Episcopal Church, 275 E. Main St., Wytheville, 08000894

Request for REMOVAL has been made for the following resources:

IOWA

Black Hawk County

Forrest Milling Company Oatmeal Mill, N. Main St., Freeport vicinity, 800001430

Mahaska County

Bridge near New Sharon, Co. Rd. 629 over drainage ditch, New Sharon, 98000505

Scott County

Burtis-Kinball House Hotel, 210 E. 4th St., Davenport, 79003696

Van Buren County

Keosauqua Bridge, IA 1 over Des Moines River, Keosauqua, 98999476

Winneshiek County

Decorah East Side Elementary and Middle School, 210 Vernon St., Decorah, 98991204

Freeport Bowstring Arch Bridge, Spans Upper Iowa River, Freeport vicinity, 84001407

[FR Doc. E8-18862 Filed 8-13-08; 8:45 am]

BILLING CODE 4312-51-P